DEPARTMENT OF TRANSPORTATION

Federal Aviation Administration

14 CFR Part 97

[Docket No. 30528; Amdt. No. 3199]

Standard Instrument Approach Procedures; Miscellaneous Amendments

AGENCY: Federal Aviation Administration (FAA), DOT.

ACTION: Final rule.

SUMMARY: This amendment amends Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: This rule is effective December 28, 2006. The compliance date for each SIAP is specified in the amendatory provisions.

The incorporation by reference of certain publications listed in the regulations is approved by the Director of the Federal Register as of December 28, 2006.

ADDRESSES: Availability of matter incorporated by reference in the amendment is as follows:

For Examination—

1. FAA Rules Docket, FAA Headquarters Building, 800 Independence Ave., SW., Washington, DC 20591;

2. The FAA Regional Office of the region in which affected airport is located; or

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to Title 14, Code of Federal Regulations, Part 97 (14 CFR part 97) amends Standard Instrument Approach Procedures (SIAPs). The complete regulatory description of each SIAP is contained in the appropriate FAA Form 8260, as modified by the National Flight Data Center (FDC)/Permanent Notice to Airmen (P-NOTAM), which is incorporated by reference in the amendment under 5 U.S.C. 552(a), 1 CFR part 51, and § 97.20 of the Code of Federal Regulations. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR sections, with the types and effective dates of the SIAPs. This amendment also identifies the airport, its location, the procedure identification and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these chart changes to SIAPs, the TERPS criteria were applied to only these specific conditions existing at the affected airports. All SIAP amendments in this rule have been previously issued by the FAA in an FDC NOTAM as an emergency action of immediate flight safety relating directly to published aeronautical charts. The circumstances which created the need for all these SIAP amendments requires making them effective in less than 30 days.

Further, the SIAPs contained in this amendment are based on the criteria contained in TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC on December 15, 2006.
James J. Ballough,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33 and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

Effective Upon Publication

EFFECTIVE UPON PUBLICATION
FDC date | State | City | Airport | FDC number | Subject
11/22/06 | CO | Hayden | Yampa Valley | 6/6578 | Rescind NOTAM Published in TL07-1.ILS or LOC/DME Y Rwy 10, Amdt 2.
11/29/06 | CO | Hayden | Yampa Valley | 6/6653 | ILS or LOC/DME Y Rwy 10, Amdt 2.
12/04/06 | FL | Tampa | Tampa Int | 6/7515 | RNAV (RNP) Y Rwy 18L, Orig-A.
12/04/06 | ME | Augusta | Augusta State | 6/7520 | VOR Rwy 35, Amdt 5.
12/04/06 | NC | Reidsville | Rockingham County NC Shiloh | 6/7563 | VOR/DME A, Amdt 8.
12/04/06 | AZ | Phoenix | Phoenix Sky Harbor Intl | 6/7582 | RNAV (GPS) Rwy 8, Orig.
12/04/06 | AZ | Phoenix | Phoenix Sky Harbor Intl | 6/7585 | RNAV (GPS) Rwy 7R, Orig.
12/04/06 | AZ | Phoenix | Phoenix Sky Harbor Intl | 6/7586 | ILS Rwy 26, Orig-A.
12/04/06 | AZ | Phoenix | Phoenix Sky Harbor Intl | 6/7587 | ILS Rwy 7L, Amdt 10A.
12/04/06 | AZ | Phoenix | Phoenix Sky Harbor Intl | 6/7588 | RNAV (GPS) Rwy 7L, Orig.
12/04/06 | AZ | Phoenix | Phoenix Sky Harbor Intl | 6/7589 | ILS Rwy 7R, Amdt 1A.
12/05/06 | CA | Chico | Chico Muni | 6/7596 | ILS Rwy 13L, Amdt 10A.
12/05/06 | DC | Washington | Ronald Reagan Washington Ntl | 6/7614 | RNAV (RNP) Rwy 19, Orig-A.
12/05/06 | AZ | Phoenix | Phoenix Sky Harbor Intl | 6/7645 | ILS Rwy 8, Orig.
12/05/06 | NY | White Plains | Westchester County | 6/7665 | ILS Rwy 16, Amdt 22F.
12/05/06 | NY | White Plains | Westchester County | 6/7666 | NDB Rwy 16, Amdt 21.
12/08/06 | NY | Ogdensburg | Ogdensburg Intl | 6/7937 | LOC Rwy 27, Amdt 2A.
12/08/06 | AK | Hooper Bay | Hooper Bay | 6/7938 | RNAV (GPS) Rwy 13, Orig.
12/08/06 | AK | Hooper Bay | Hooper Bay | 6/7939 | RNAV (GPS) Rwy 31, Orig.
12/08/06 | AK | Hooper Bay | Hooper Bay | 6/7940 | VOR/DME Rwy 31, Orig.
12/08/06 | NC | Asheville | Asheville Regional | 6/7949 | ILS Rwy 16, Amdt 3A.
12/08/06 | NC | Lincolnton | Lincolnton-Lincoln County Regional | 6/7956 | LOC Rwy 23, Orig-A.
12/08/06 | NC | Lincolnton | Lincolnton-Lincoln County Regional | 6/7957 | NDB or GPS Rwy 23, Amdt 2.
12/08/06 | WV | Martinsburg | Eastern West Virginia Regional/Shepherd Field | 6/7962 | ILS Rwy 26, Amdt 6.
12/08/06 | NC | Shelby | Shelby Muni | 6/7985 | NDB Rwy 23, Orig.
12/08/06 | NC | Fayetteville | Fayetteville Regional/Grannis Field | 6/7986 | ILS Rwy 4, Amdt 15.
12/12/06 | MD | Baltimore | Baltimore-Washington Intl | 6/8227 | ILS Rwy 33L, Amdt 9B.
12/12/06 | DE | Wilmington | New Castle | 6/8228 | ILS Rwy 1, Amdt 20A.
12/12/06 | DE | Wilmington | New Castle | 6/8230 | VOR OR GPS Rwy 1, Amdt 3B.
09/28/06 | GU | Agana | Guam Intl | 6/1659 | RNAV (RNP) Z Rwy 6L, Orig.
09/28/06 | GU | Agana | Guam Intl | 6/1664 | RNAV (RNP) Z Rwy 24L, Orig.

[FR Doc. E6-21954 Filed 12-27-06; 8:45 am]

BILLING CODE 4910-13-P